DEPARTMENT OF TRANSPORTATION

Federal Highway Administration

Environmental Impact Statement; Dodge and Steele Counties, MN

AGENCY: Federal Highway Administration (FHWA), DOT.

ACTION: Notice of intent.

SUMMARY: The FHWA is issuing this notice to advise the public that an environmental impact statement (EIS) will be prepared for proposed highway improvements to United States Highway 14 (Highway 14) from the existing four-lane bypass of Dodge Center to the intersection of Highway 14 and Interstate 35 (I-35) in Owatonna, a distance of approximately 19 miles, in Dodge and Steele Counties, Minnesota.

FOR FURTHER INFORMATION CONTACT: Cheryl Martin, Federal Highway Administration, Galtier Plaza, 380 Jackson Street, Suite 500, St. Paul, Minnesota 55101, Telephone (651) 291-6120; or Richard Augustin, Project Manager, Minnesota Department of Transportation—District 6, 2900 48th Street, NW., Rochester, Minnesota 55901, Telephone (507) 280-5092; (800) 627-3529 TTY.

SUPPLEMENTARY INFORMATION: The FHWA, in cooperation with the Minnesota Department of Transportation (Mn/DOT), will prepare an EIS on a proposal to reconstruct Highway 14 from the existing four-lane bypass of Dodge Center, Dodge County, to the intersection of Highway 14 and I-35 in Owatonna, Steele County, Minnesota, a distance of approximately 19 miles. The proposed action is being considered to address future transportation demand and safety problems and to enhance system continuity.

This segment of Highway 14 was previously included in an EIS process, which addressed a broader 24-mile segment of Highway 14 from Owatonna to Kasson. The Draft EIS for the Owatonna to Kasson project was approved in October 1991 and the Final EIS was approved in August 1993. The 1993 Final EIS defined two project segments. The first was an extension of the four-lane, divided expressway from Kasson to the west side of Dodge Center at Highway 56 (including the Dodge Center bypass). At the time of the EIS, this project was programmed for construction in 1994. The second segment involved extending the four lanes from Highway 56 to Highway 218 in Owatonna. This segment was not programmed for construction when the EIS was completed. Since the 1993 Final EIS, the Kasson to Dodge Center segment has been constructed as a four-lane highway, including a freeway design bypass of Dodge Center. The “1993 preferred alternative” for the segment between Dodge Center and Owatonna has not been constructed. With the completion of the Dodge Center to Kasson segment, and the imminent completion of the Highway 14 improvements west of I-35, a process was started to re-evaluate the 1993 EIS conclusions regarding the Owatonna to Dodge Center segment. This segment continues to increase in priority given traffic growth, safety concerns, and the logic of completing the last segment of Highway 14 between Mankato and Rochester to be expanded to a four-lane highway. Based on a review of the 1993 EIS and the changes in transportation needs that have taken place since 1993, it was concluded that a new EIS for the Owatonna to Dodge Center segment should be completed for the following reasons:

—The vision for Highway 14 has changed to a controlled access freeway design, as opposed to the expressway design determined by the 1993 EIS, due to overall traffic growth, safety concerns, access spacing issues, driver expectation and increased truck traffic and,

—The previously identified preferred alternative of expanding on the existing corridor rather than a new corridor parallel to the Dakota, Minnesota & Eastern Railroad that was considered in the 1993 EIS needs to be revisited.

The EIS will evaluate the social, economic, transportation and environmental impacts of alternatives, including: (1) No-Build, (2) Reconstruction on existing alignment, and (3) Construction on partial new alignment.

The “US 14 EIS from Owatonna to Dodge Center Scoping Document/Draft Scoping Decision Document” was published in November 2006. A press release was published to inform the public of the document's availability. Copies of the scoping document was distributed to agencies, interested persons and libraries for review to aid in identifying issues and analyses to be contained in the EIS. A thirty-day comment period for review of the document was provided to afford an opportunity for all interested persons, agencies and groups to comment on the proposed action. A public scoping meeting was also held during the comment period. Public notice was given for the time and place of the meeting. The scoping comment period closed on December 22, 2006. The “US 14 EIS Scoping Decision Document” is expected to be published in February 2007. A Draft EIS will be prepared based on the outcome of and closely following the scoping process. The Draft EIS will be available for agency and public review and comment. In addition, a public hearing will be held following completion of the Draft EIS. Public Notice will be given for the time and place of the public hearing on the Draft EIS. Coordination has been initiated and will continue with appropriate Federal, State and local agencies and private organizations and citizens who have previously expressed or are known to have an interest in the proposed action. “Participating agencies” have been identified and a meeting held on October 25, 2006 to discuss the project and receive input on the “purpose and need” for the project and range of alternatives to be studied in the Draft EIS. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

Issued on: February 8, 2007
Cheryl B. Martin,
Environmental Engineer, Federal Highway Administration, St. Paul, Minnesota.

[FR Doc. 07-695 Filed 2-14-07; 8:45 am]

BILLING CODE 4910-22-M